DEPARTMENT OF DEFENSE

Office of the Secretary

[Transmittal No. 23-46]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-46, and Policy Justification.

Dated: October 2, 2024.
Aaron T. Siegel,
Alternate OSD Federal Register Liaison Officer, Department of Defense.

BILLING CODE 6001-FR-P

BILLING CODE 6001-FR-C

Transmittal No. 23-46

Notice of Proposed Issuance of Letter of Offer Pursuant to Section 36(b)(1) of the Arms Export Control Act, as amended

(i) Prospective Purchaser: Government of France

(ii) Total Estimated Value:

Major Defense Equipment * | $ 0 million
Other | $160 million
Total | $160 million

(iii) Description and Quantity or Quantities of Articles or Services Under Consideration for Purchase: Foreign Military Sales (FMS) case FR-P-GWR for non-MDE E-2C Hawkeye sustainment support was originally valued at $99.6 million, below the congressional notification threshold. The Government of France has requested the case be amended to include additional non-MDE E-2C Hawkeye sustainment items and services. This case amendment will increase the total case value above the total non-MDE notification threshold and thus notification of the entire FMS case is now required.

Major Defense Equipment (MDE):

None

Non-MDE:

Included is an Engine Component Improvement Program (CIP); software updates; technical publication; U.S. Government and contractor technical and product support and assistance; and other related elements of logistics and program support.

(iv) Military Department: Navy (FR-P-GWR)

(v) Prior Related Cases, if any: FR-P-SBG, FR-P-SBI, FR-P-SBL

(vi) Sales Commission, Fee, etc., Paid, Offered, or Agreed to be Paid: None

(vii) Sensitivity of Technology Contained in the Defense Article or Defense Services Proposed to be Sold: None

(viii) Date Report Delivered to Congress: June 13, 2023

* As defined in Section 47(6) of the Arms Export Control Act.

POLICY JUSTIFICATION

France—E-2C Hawkeye Sustainment Support

The Government of France has requested to buy additional non-MDE E-2C Hawkeye sustainment items and services that will be added to a previously implemented case. The original Foreign Military Sales (FMS) case, valued at $99.6 million, included E-2C Hawkeye sustainment support. Therefore, this notification is for E-2C Hawkeye sustainment support, which includes an Engine Component Improvement Program (CIP); software updates; technical publications; U.S. Government, and contractor technical and product support and assistance; and other related elements of logistics and program support. The estimated total cost is $160 million.

This proposed sale will support the foreign policy and national security objectives of the U.S. by helping to improve the security of a NATO Ally that is an important force for political stability and economic progress in Europe.

The proposed sale will improve France's capability to meet current and future threats in the European domain by maintaining its E-2C fleet in fully mission-capable status and sustain interoperability with U.S. and NATO forces. France will have no difficulty absorbing these articles and services into its armed forces.

The proposed sale of this equipment and support will not alter the basic military balance in the region.

The principal U.S. contractor will be Northrop Grumman, Melbourne, FL. There are no known offset agreements proposed in connection with this potential sale.

Implementation of the proposed sale will require occasional government personnel to visit France on a temporary basis and one contractor personnel to be permanently assigned in France in conjunction with program technical oversight and support requirements, including program and technical reviews as well as training and maintenance support.

There will be no adverse impact on U.S. defense readiness as a result of this proposed sale.

[FR Doc. 2024-23190 Filed 10-7-24; 8:45 am]

BILLING CODE 6001-FR-P